DEPARTMENT OF HEALTH AND HUMAN SERVICES

Administration on Aging

Agency Information Collection Activities: Proposed Submission to the Office of Management and Budget (OMB) for Clearance; Comment Request; Extension of a Currently Approved Information Collection

AGENCY: Administration on Aging, HHS.

The Administration on Aging (AoA), Department of Health and Human Services, provides an opportunity for comment on the following proposal for the collection of information in compliance with the Paperwork Reduction Act (PRA; Public Law 96-511):

Title of Information Collection: Performance Progress Reports for Title IV Grantees.

Type of Request: Extension of use of the report, with no revision.

Use: Extension of reporting format for use by Title IV grantees in reporting on activities of their Title IV Discretionary Funds Projects as required under Title IV of the Older Americans Act, as amended.

Frequency: Semi-annually.

Respondents: States, public agencies, private nonprofit agencies, institutions of higher education, and organizations, including tribal organizations.

Estimated Number of Responses: 160.

Total Estimated Burden Hours: 3,200.

Additional Information or Comments: The Administration on Aging plans to submit to the Office of Management and Budget for approval, an extension, with no revisions, of a reporting form and instructions for the Title IV Discretionary Funds Program, pursuant to requirements in Title IV of the Older Americans Act. Written comments and recommendations for the proposed information collection should be sent within 60 days of the publication of this notice directly to the following address: Office of Program Development, Administration on Aging, Attention: Judy Satine, 330 Independence Avenue, SW., Washington, DC 20201.

Dated: March 22, 2001.
Norman L. Thompson,
Acting Principal Deputy Assistant Secretary for Aging.

[FR Doc. 01-7906 Filed 3-29-01; 8:45 am]

BILLING CODE 4154-01-P